CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments on the Service-Learning Evaluation Study Feasibility Questionnaire. In this process, State Education Agencies will be asked about the type of service-learning within their state and the feasibility of the Service-Learning Evaluation Study. This information will be used to help determine the recruitment strategy for the Service-Learning Evaluation Study.

Copies of the information collection requests can be obtained by contacting the office listed in the ADDRESSES section of this notice.

DATES: Written comments must be submitted to the individual and office listed in the ADDRESSES section by January 25, 2010.

ADDRESSES: You may submit comments, identified by the title of the information collection activity, by any of the following methods:

(1) By mail sent to: Corporation for National and Community Service, Office of Research and Policy Development; Attention Carla Fletcher, Policy Analyst, Room 10913B; 1201 New York Avenue, NW., Washington, DC 20525.

(2) By hand delivery or by courier to the Corporation's mailroom at Room 8100 at the mail address given in paragraph (1) above, between 9 a.m. and 4 p.m. Monday through Friday, except Federal holidays.

(3) By fax to: (202) 606-3464, Attention Carla Fletcher, Policy Analyst.

(4) Electronically through the Corporation's e-mail address system: cfletcher@cns.gov.

FOR FURTHER INFORMATION CONTACT: Carla Fletcher, (202) 606-6720, or by e-mail at cfletcher@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Corporation is developing a Service-Learning Evaluation in response to the Edward M. Kennedy Serve America Act (H.R. 1388) legislative mandate to assess the impact of the activities carried out under the Learn and Serve America Program. In developing the recruitment plan, the Corporation would like to work with the State Education Agencies to develop an effective strategy and begin to identify states that are able to participate in the study.

Current Action

The Corporation seeks to collect new information on the feasibility of a Service-Learning Evaluation Study in order to identify an effective recruitment strategy and potential states that could participate in the Service-Learning Evaluation.

Type of Review: New.

Agency: Corporation for National and Community Service.

Title: Service-Learning Evaluation Study Feasibility Questionnaire.

OMB Number: None.

Agency Number: None.

Affected Public: State Education Agencies.

Total Respondents: 59.

Frequency: One time.

Average Time per Response: Averages 60 minutes.

Estimated Total Burden Hours: 59 hours.

Total Burden Cost (capital/startup): None.

Total Burden Cost (operating/maintenance): None.

Comments submitted in response to this notice will be summarized and/or included in the request for Office of Management and Budget approval of the information collection request; they will also become a matter of public record.

Dated: November 19, 2009.
Robert Grimm,
Director, Office of Research and Policy Development.

[FR Doc. E9-28292 Filed 11-24-09; 8:45 am]

BILLING CODE 6050-$$-P